ENVIRONMENTAL PROTECTION AGENCY

[FRL-9227-9 ]

Access to Confidential Business Information by Industrial Economics, Incorporated

AGENCY: Environmental Protection Agency (EPA).

ACTION: Notice of Access to Data and Request for Comments.

SUMMARY: EPA will authorize its contractor, Industrial Economics, Incorporated (IEc) to access Confidential Business Information (CBI) which has been submitted to EPA under the authority of all sections of the Resource Conservation and Recovery Act (RCRA) of 1976, as amended. EPA has issued regulations that outline business confidentiality provisions for the Agency and require all EPA Offices that receive information designated by the submitter as CBI to abide by these provisions.

DATES: Access to confidential data submitted to EPA will occur no sooner than November 29, 2010.

FOR FURTHER INFORMATION CONTACT: LaShan Haynes, Document Control Officer, Office of Resource Conservation and Recovery, (5305P), U.S. Environmental Protection Agency, 1200 Pennsylvania Avenue, NW., Washington, DC 20460, 703-605-0516.

SUPPLEMENTARY INFORMATION:

1. Access to Confidential Business Information

Under EPA Contracts Nos. GS-10F-0061N (EP10H000898) and EP-W-06-065/0013, Industrial Economics, Incorporated (IEc) will assist the Office of Enforcement and Compliance Assurance, Office of Civil Enforcement, Special Litigation and Projects Division with performing financial analyses on respondents in EPA civil and criminal enforcement cases to delineate the ability to pay penalties. The analyses may extend to the level of expert testimony in support of EPA's enforcement actions. OECA is involved directly and indirectly in bringing enforcement actions against violators of environmental regulations. These cases typically, involve one or more of the following statutes: CAA, CWA, RCRA, TSCA, FIFRA, EPCRA and the SDWA. Some of the data collected from industry are claimed by industry to contain trade secrets or CBI. In accordance with the provisions of 40 CFR Part 2, Subpart B, ORCR has established policies and procedures for handling information collected from industry, under the authority of RCRA, including RCRA Confidential Business Information Security Manuals.

Industrial Economics, Incorporated (IEc), shall protect from unauthorized disclosure all information designated as confidential and shall abide by all RCRA CBI requirements, including procedures outlined in the RCRA CBI Security Manual.

The U.S. Environmental Protection Agency has issued regulations (40 CFR Part 2, Subpart B) that outline business confidentiality provisions for the Agency and require all EPA Offices that receive information designated by the submitter as CBI to abide by these provisions. Industrial Economics, Incorporated (IEc) will be authorized to have access to RCRA CBI under the EPA “Contractor Requirements for the Control and Security of RCRA Confidential Business Information Security Manual.”

EPA is issuing this notice to inform all submitters of information under all sections of RCRA that EPA will provide Industrial Economics, Incorporated access to the CBI records located in the RCRA Confidential Business Information Center. Access to RCRA CBI under this contract will take place at EPA Headquarters only. Contractor personnel will be required to sign non-disclosure agreements and will be briefed on appropriate security procedures before they are permitted access to confidential information.

Dated: November 4, 2010.
Suzanne Rudzinski,
Acting Director, Office of Resource Conservation & Recovery.

[FR Doc. 2010-28965 Filed 11-16-10; 8:45 am]

BILLING CODE 6560-50-P